DEPARTMENT OF JUSTICE

Office of Justice Programs

[OJP (NIJ) Docket No. 1525]

Notice of Draft NIJ Criminal Justice Restraints Selection and Application Guide

AGENCY: National Institute of Justice, Office of Justice Programs, Department of Justice.

ACTION: Notice of Draft NIJ Criminal Justice Restraints Selection and Application Guide.

SUMMARY: In an effort to obtain comments from interested parties, the U.S. Department of Justice, Office of Justice Programs, National Institute of Justice (NIJ) will make available to the general public the draft “NIJ Criminal Justice Restraints Selection and Application Guide.” The opportunity to provide comments on this document is open to industry technical representatives, criminal justice agencies and organizations, research, development and scientific communities, and all other stakeholders and interested parties. Those individuals wishing to obtain and provide comments on the draft documents under consideration are directed to the following Web site: http://www.justnet.org.

DATES: Comments must be received on or before August 27, 2010.

FOR FURTHER INFORMATION CONTACT: Casandra Robinson, by telephone at 202-305-2596 [Note: this is not a toll-free telephone number], or by e-mail at casandra.robinson@usdoj.gov.

Kristina Rose,
Acting Director, National Institute of Justice.

[FR Doc. 2010-18468 Filed 7-27-10; 8:45 am]

BILLING CODE 4410-18-P